DEPARTMENT OF ENERGY

Federal Energy Regulatory Commission

[Project No. 4718-039]

Notice of Application Tendered for Filing With the Commission and Soliciting Additional Study Requests and Establishing Procedural Schedule for Relicensing and a Deadline for Submission of Final Amendments; Cocheco Falls Associates

Take notice that the following hydroelectric application has been filed with the Commission and is available for public inspection.

a. Type of Application: Subsequent Minor License.

b. Project No.: 4718-039.

c. Date filed: December 29, 2020.

d. Applicant: Cocheco Falls Associates.

e. Name of Project: Cocheco Falls Dam Project.

f. Location: On the Cocheco River in Dover, Strafford County, New Hampshire. The project does not occupy any federal land.

g. Filed Pursuant to: Federal Power Act 16 U.S.C. 791(a)-825(r).

h. Applicant Contact: Mr. John Webster, Cocheco Falls Associates, P.O. Box 178, South Berwick, ME 03908; Phone at (207) 384-5334, or email at Hydromagnt@gwi.net.

i. FERC Contact: Amy Chang at (202) 502-8250, or amy.chang@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 27, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Cocheco Falls Dam Project (P-4718-039).

m. The application is not ready for environmental analysis at this time.

n. Project Description: The existing Cocheco Falls Dam Project consists of: (1) A 150-foot-long, 13.5-foot-high stone masonry arch dam that includes the following sections: (a) A left abutment section; (b) a 140-foot-long spillway section with 24-inch-high flashboards, a 5-foot-wide, 10-foot-high low-level outlet gate, and a crest elevation of 37.0 feet mean sea level (msl) at the top of the flashboards; and (c) a right abutment section with a debris sluice gate; (2) a 20-acre impoundment with a storage capacity of 150 acre-feet at an elevation of 37.0 feet msl; (3) a 64-foot-wide, 10-foot-high intake structure equipped with a trashrack with 1-inch clear bar spacing; (4) an 8.5-foot-diameter, 184-foot-long gated steel penstock that trifurcates into three 5-foot-diameter, 8-foot-long sections, each controlled by a 5-foot-diameter butterfly valve; (5) a 40-foot-long, 40-foot-wide concrete and brick masonry powerhouse containing three 238-kilowatt (kW) vertical Flygt submersible turbine-generator units for a total installed capacity of 714 kW; (6) a 40-foot-long, 40-foot-wide tailrace that discharges into the Cocheco River; (7) a 1,000-foot-long, 34.5-kilovolt (kV) underground transmission line and a 34.5-kV transformer that connects the project to the local utility distribution system; and (8) appurtenant facilities.

Cocheco Falls Associates voluntarily operates the project in a run-of-river mode using an automatic pond level control system to regulate turbine operation, such that outflow from the project approximates inflow. The project creates an approximately 100-foot-long bypassed reach of the Cocheco River.

Downstream fish passage is provided by a bypass facility located on the left side of the dam and consist of a 5.6-foot-wide, 7-foot-long fish collection box, a trashrack with 6-inch clear bar spacing, and a 24-inch-diameter PVC fish passage pipe. Upstream fish passage is provided by a Denil fish ladder located on the right side of the dam.

The current license requires the release of: (1) 20 cubic feet per second (cfs) from the upstream fish passage facility from April 15 until June 30; (2) 20 cfs through the trash sluiceway from April 15 until June 15, to attract anadromous fish to the fish ladder; and (3) 20 cfs through the downstream fish passage facility from April 15 until ice forms on the river. The average annual generation of the project is approximately 3,000 megawatt-hours.

Cocheco Falls Associates proposes to: (1) Continue to operate the project in a run-of-river mode; (2) continue to facilitate upstream and downstream fish passage by providing the minimum flows required by the current license; (3) design and install an upstream eel passage facility at the Denil fish ladder location within 4 years of the effective date of a subsequent license; and (4) consult with the New Hampshire State Historic Preservation Officer before beginning any land-disturbing activities or alterations to known historic structures within the project boundary.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4718). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary) February 2021

Request Additional Information February 2021

Issue Acceptance Letter May 2021

Issue Scoping Document 1 for comments June 2021

Request Additional Information (if necessary) August 2021

Issue Scoping Document 2 September 2021

Issue Notice of Ready for Environmental Analysis September 2021

q. Final amendments to the application must be filed with the Commission no later than 30 days from the issuance date of the notice of ready for environmental analysis.

Dated: January 12, 2021.
Kimberly D. Bose,
Secretary.

[FR Doc. 2021-01032 Filed 1-15-21; 8:45 am]

BILLING CODE 6717-01-P